POSTAL SERVICE

39 CFR Part 20

Global Express Guaranteed: Discounted Rates for Online Customers

AGENCY: Postal Service.

ACTION: Interim rule with request for comments.

SUMMARY: The Postal Service is offering discounted rates for online customers who purchase Global Express Guaranteed™ service. The discounted rates are based on minimum shipping volumes that average 5 pieces per week, 12 pieces per week, and 20 pieces or more per week. The Postal Service is also offering a standard Web discount for all Global Express Guaranteed customers who prepare and pay for their shipments online but do not qualify for the volume-based discounts.

DATES: This interim rule will take effect on August 9, 2001. Comments on the interim rule must be received on or before September 10, 2001.

ADDRESSES: Written comments should be mailed or hand delivered to Business Initiatives, Expedited/Package Services, U.S. Postal Service, 200 E Mansell Ct, Ste 300, Roswell, GA 30076-4850. Copies of all written comments will be available for public inspection between 9 a.m. and 4 p.m. EST, Monday through Friday, in the Expedited/Package Services Office, U.S. Postal Service, 200 E Mansell Ct, Ste 300, Roswell, GA 30076-4850.

FOR FURTHER INFORMATION CONTACT: Malcolm E. Hunt, 770-360-1104.

SUPPLEMENTARY INFORMATION: Global Express Guaranteed service is the Postal Service's premium international shipping service. Global Express Guaranteed is an expedited delivery service that is offered as a result of an alliance between the Postal Service and DHL Worldwide Express. It provides date-certain delivery service from designated U.S. ZIP Code areas to locations in over 200 destination countries and territories. Global Express Guaranteed consists of two mail classifications: Global Express Guaranteed Document Service and Global Express Guaranteed Non-Document Service. Regulations for Global Express Guaranteed service are set forth in part 210 of the International Mail Manual (IMM) and the Global Express Guaranteed Service Guide.

The Postal Service is offering discounted rates to customers who prepare and pay for their Global Express Guaranteed shipments online, offering a standard discount for all online transactions, and volume-based discounts for customers who ship minimum volumes on a weekly basis. This discount rate structure is comparable to that offered by other shippers in the international shipping marketplace.

The discounts are limited to Global Express Guaranteed shipments prepared and paid for online because the Global Express Guaranteed online application can perform the necessary activity of automatically tracking customer activity and volume for use in calculating rates. This capability is not currently available at the retail terminals in Post Offices. There is also a cost saving for the Postal Service when customers prepare and pay for shipments online. Thus, these discounts will not apply to Global Express Guaranteed shipments that are paid for at retail acceptance Post Offices.

The standard and volume-based online discount rates will be applied automatically via the Global Express Guaranteed Web application. The volume-based discounts will be calculated at three volume levels—5, 12, or 20 or more pieces per week—and will vary depending on shipment destination. For those online customers shipping fewer than 5 pieces per week, a standard discount of 5 percent off the non-discounted rate that would otherwise apply to the shipment will be offered. These rates are reflected in the four rate schedules in IMM 216.36.

The volume discounts are calculated as follows:

Week 1: All shipments receive the standard Web discount of 5 percent off the published price.

Week 2: The discount is based on how much volume was mailed in the first week.

Week 3: The discount is based on the average volume of the first 2 weeks.

Week 4: The discount is based on the average volume of the first 3 weeks.

This continues through a 12-week cycle. After a 12-week history is established, the discount is based on the average volume of the preceding 12 weeks.

Although the Postal Service is exempted by 39 U.S.C. 410(a) from the notice requirements of the Administrative Procedure Act regarding rule making (5 U.S.C.553), the Postal Service invites public comment on this interim rule at the above address.

List of Subjects in 39 CFR Part 20

Foreign relations.

The Postal Service adopts the following discounted rates and amends the IMM, which is incorporated by reference in the Code of Federal Regulations. See 39 CFR 20.1.

PART 20—[AMENDED]

1. The authority citation for 39 CFR Part 20 continues to read as follows:

Authority: 5 U.S.C. 552(a); 39 U.S.C. 401, 404, 407, 408.

2. Chapter 2 of the IMM is amended as follows to provide for the discounted rates:

International Mail Manual (IMM)

* * * * *

2 Conditions for Mailing

* * * * *

210 Global Express Guaranteed

* * * * *

216 Postage

* * * * *

(Add new 216.3 as follows. Renumber existing 216.3 as 216.4.)

216.3 Discounted Rates

216.31 General

Discounted rates apply to Global Express Guaranteed customers who prepare and pay for Global Express Guaranteed shipments online using the Web application located at http://www.usps.com/gxg. The Global Express Guaranteed online application provides the necessary systems for tracking usage and volume, as well as verifying and protecting revenue. These discounts do not apply to Global Express Guaranteed shipments that are paid for at participating Post Offices because the necessary volume tracking capabilities are not available at retail locations.

216.32 Eligibility for Online Discounts

To be eligible for discounts for purchasing Global Express Guaranteed online, customers must register via the Global Express Guaranteed Web site, http://www.usps.com/gxg. Registration is accomplished by selecting the designated icon on the Global Express Guaranteed home page and following the accompanying instructions. This one-time registration will establish a shipping record and a customer history for purposes of calculating the appropriate discounts. To be eligible for online discounts, customers must prepare their shipping labels and pay for their shipments online using a credit card.

216.33 Online Discounts

216.331 General

Two types of online discounts are offered: Standard discounts and volume-based discounts. The discount applies only to the postage portion of the Global Express Guaranteed rates. It does not apply to any other service charges or additional insurance coverage fees. The discounted postage rates applicable to Global Express Guaranteed are set forth in 216.36 and are separate and distinct from the postage rates set forth in 216.1 and 216.2.

216.332 Standard Web Discount

A standard discount schedule will apply to all items prepared and paid for on the Web that do not qualify for the volume discount schedule. The discount is automatically applied to each shipment.

216.333 Volume Discounts

If previous volume minimums are met, volume discounts will apply to registered customers who prepare and pay for shipments online. Volume is calculated on a weekly basis, with a week defined as Monday through Sunday. The Web application automatically tracks the customer's daily shipping activity and applies the appropriate discount based on delivery destination.

216.334 Determination of Volume Discounts

There are three different rate schedules for Global Express Guaranteed volume discounts. Each rate schedule reflects different rates based on previous usage averaging 5 shipments or more per week, 12 shipments or more per week, and 20 or more shipments per week.

The first week of shipping, all shipments get the standard online discount of 5 percent off the applicable non-discounted rate. The second week, the discount is based on the volume shipped the first week. The third week, the discount is based on the average volume of the first 2 weeks. The fourth week, the discount is based on the average volume of the first 3 weeks. This continues through a 12-week cycle. After a 12-week history is established, the discount is always based on the average volume of the preceding 12 weeks.

216.34 Online Postage Payment

216.341 Credit Card Payment

Customers must pay postage online using a credit card. The following credit cards are accepted for payment online: American Express, Diner's Club, Discover, MasterCard, and Visa.

216.342 Deposit Within 24 Hours

Customers paying postage online must enter their shipment via any of the methods outlined in 216.35 within 24 hours of the time when the label is printed or the transaction will be voided.

216.343 Postage Adjustments

Use of the online service is subject to subsequent verification of the shipment upon acceptance by the Postal Service to verify that the payment, weight, and time of entry are accurate. Registration for online service constitutes an authorization to the Postal Service to make adjustments to the initial credit charge for any postage deficiencies discovered upon acceptance. Adjustments for items paid online will be made to the customer's credit card account.

216.344 Notification

An email notification will be provided to each customer showing the exact postage amount applicable for the online shipment, as well as the acceptance time and date.

216.35 Shipment Preparation and Deposit

216.351 Preparation

Customers must prepare shipments following the shipping preparation instructions on the Global Express Guaranteed Web site.

216.352 Deposit

The following choices are available for depositing Global Express Guaranteed shipments prepared online:

a. On-Call and scheduled pickup services are available for an added charge of $10.25 for each pickup stop, regardless of the number of pieces picked up. Only one pickup fee will be charged if domestic Express Mail, International Express Mail, domestic Priority Mail, International Parcel Post, and/or domestic Parcel Post is picked up at the same time. No pickup fee will be charged when Global Express Guaranteed is picked up during a delivery stop or during a scheduled stop made to collect other mail not subject to a pickup fee. Pickup service is provided in accordance with DMM D010. A complete listing of participating Global Express Guaranteed Post Offices is available on the Web site at http://www.usps.com/gxg.

b. Customers may present their online shipments at the retail counter of any participating Global Express Guaranteed Post Office.

c. Customers using the online postage payment option may drop shipments in collection boxes served by a participating Global Express Guaranteed Post Office.

216.353 Acceptance of Online Shipments

For purposes of computing the delivery guarantee, postal acceptance of a Global Express Guaranteed item prepared online occurs when the shipment is received and scanned at a participating Global Express Guaranteed Post Office. Collection box deposit and carrier pickup do not constitute Postal Service acceptance of a Global Express Guaranteed shipment. Acceptance occurs when the shipment is brought back to the Post Office and the acceptance office performs a retail system scan to verify the weight and dimensions of the shipment. The customer will receive an email verification of the acceptance date, time, and weight, as well as a verification of the amount of postage applicable for the shipment.

216.36 Discounted Rates

216.361 Document Rates With Standard Web Discount

Weight not over (lbs.) | Rate group 1 | Rate group 2 | Rate group 3 | Rate group 4 | Rate group 5 | Rate group 6 | Rate group 7 | Rate group 8
0.5 | 22.80 | 23.75 | 30.40 | 30.40 | 42.75 | 31.35 | 32.30 | 61.75
1 | 31.35 | 32.30 | 37.05 | 42.75 | 49.40 | 44.65 | 43.70 | 71.25
2 | 36.10 | 38.00 | 43.70 | 49.40 | 61.75 | 52.25 | 49.40 | 84.55
3 | 38.00 | 43.70 | 50.35 | 56.05 | 75.05 | 58.90 | 57.00 | 95.95
4 | 40.85 | 47.50 | 57.00 | 62.70 | 88.35 | 64.60 | 64.60 | 106.40
5 | 43.70 | 52.25 | 63.65 | 69.35 | 100.70 | 71.25 | 71.25 | 117.80
6 | 45.60 | 55.10 | 68.40 | 76.00 | 113.05 | 76.00 | 77.90 | 129.20
7 | 48.45 | 57.95 | 72.20 | 81.70 | 124.45 | 81.70 | 84.55 | 140.60
8 | 50.35 | 61.75 | 76.00 | 88.35 | 135.85 | 86.45 | 91.20 | 152.00
9 | 52.25 | 64.60 | 80.75 | 95.00 | 148.20 | 91.20 | 97.85 | 163.40
10 | 55.10 | 66.50 | 84.55 | 98.80 | 156.75 | 96.90 | 104.50 | 171.00
11 | 57.00 | 69.35 | 87.40 | 103.55 | 166.25 | 99.75 | 110.20 | 181.45
12 | 58.90 | 72.20 | 91.20 | 109.25 | 175.75 | 103.55 | 115.90 | 192.85
13 | 61.75 | 75.05 | 94.05 | 114.00 | 185.25 | 107.35 | 120.65 | 204.25
14 | 63.65 | 76.95 | 97.85 | 118.75 | 194.75 | 111.15 | 125.40 | 214.70
15 | 65.55 | 79.80 | 100.70 | 123.50 | 203.30 | 114.95 | 130.15 | 226.10
16 | 68.40 | 82.65 | 103.55 | 129.20 | 211.85 | 118.75 | 134.90 | 236.55
17 | 70.30 | 84.55 | 107.35 | 133.95 | 219.45 | 122.55 | 139.65 | 247.00
18 | 72.20 | 87.40 | 110.20 | 138.70 | 226.10 | 126.35 | 145.35 | 257.45
19 | 75.05 | 90.25 | 114.00 | 143.45 | 233.70 | 130.15 | 151.05 | 267.90
20 | 76.95 | 92.15 | 116.85 | 148.20 | 240.35 | 133.95 | 156.75 | 278.35
21 | 78.85 | 95.00 | 119.70 | 152.95 | 247.00 | 136.80 | 162.45 | 286.90
22 | 80.75 | 96.90 | 123.50 | 157.70 | 254.60 | 140.60 | 167.20 | 295.45
23 | 82.65 | 99.75 | 126.35 | 162.45 | 261.25 | 144.40 | 171.95 | 302.10
24 | 85.50 | 102.60 | 130.15 | 167.20 | 268.85 | 148.20 | 176.70 | 308.75
25 | 87.40 | 104.50 | 133.00 | 171.95 | 275.50 | 152.00 | 181.45 | 316.35
26 | 89.30 | 107.35 | 135.85 | 176.70 | 283.10 | 155.80 | 186.20 | 323.00
27 | 91.20 | 109.25 | 139.65 | 180.50 | 289.75 | 159.60 | 190.95 | 329.65
28 | 93.10 | 112.10 | 142.50 | 185.25 | 297.35 | 163.40 | 195.70 | 337.25
29 | 95.00 | 114.00 | 145.35 | 190.00 | 304.00 | 167.20 | 200.45 | 343.90
30 | 97.85 | 117.80 | 150.10 | 196.65 | 314.45 | 172.90 | 205.20 | 354.35
31 | 99.75 | 120.65 | 153.90 | 201.40 | 321.10 | 176.70 | 209.95 | 361.95
32 | 101.65 | 122.55 | 156.75 | 206.15 | 328.70 | 180.50 | 214.70 | 368.60
33 | 103.55 | 124.45 | 160.55 | 210.90 | 335.35 | 184.30 | 219.45 | 376.20
34 | 106.40 | 125.40 | 163.40 | 215.65 | 342.95 | 188.10 | 224.20 | 382.85
35 | 108.30 | 127.30 | 166.25 | 220.40 | 350.55 | 191.90 | 228.95 | 390.45
36 | 110.20 | 129.20 | 170.05 | 224.20 | 357.20 | 195.70 | 233.70 | 397.10
37 | 112.10 | 131.10 | 172.90 | 228.95 | 364.80 | 199.50 | 238.45 | 404.70
38 | 114.00 | 133.00 | 176.70 | 233.70 | 371.45 | 203.30 | 243.20 | 411.35
39 | 115.90 | 134.90 | 179.55 | 238.45 | 378.10 | 207.10 | 247.95 | 418.00
40 | 117.80 | 136.80 | 182.40 | 243.20 | 383.80 | 210.90 | 252.70 | 425.60
41 | 119.70 | 138.70 | 186.20 | 247.95 | 390.45 | 214.70 | 257.45 | 432.25
42 | 123.50 | 140.60 | 189.05 | 252.70 | 397.10 | 218.50 | 262.20 | 439.85
43 | 125.40 | 142.50 | 192.85 | 257.45 | 403.75 | 222.30 | 266.95 | 446.50
44 | 127.30 | 143.45 | 195.70 | 262.20 | 410.40 | 226.10 | 271.70 | 454.10
45 | 130.15 | 145.35 | 199.50 | 266.00 | 417.05 | 229.90 | 276.45 | 460.75
46 | 132.05 | 147.25 | 202.35 | 270.75 | 423.70 | 233.70 | 281.20 | 467.40
47 | 133.95 | 148.20 | 205.20 | 275.50 | 429.40 | 237.50 | 285.95 | 475.00
48 | 135.85 | 150.10 | 209.00 | 280.25 | 436.05 | 241.30 | 290.70 | 481.65
49 | 138.70 | 152.00 | 211.85 | 285.00 | 442.70 | 245.10 | 295.45 | 489.25
50 | 140.60 | 154.85 | 217.55 | 292.60 | 454.10 | 250.80 | 300.20 | 501.60
51 | 144.40 | 156.75 | 220.40 | 297.35 | 460.75 | 250.80 | 304.95 | 515.85
52 | 146.30 | 158.65 | 224.20 | 302.10 | 467.40 | 258.40 | 309.70 | 515.85
53 | 148.20 | 160.55 | 227.05 | 306.85 | 474.05 | 262.20 | 314.45 | 531.05
54 | 151.05 | 161.50 | 230.85 | 311.60 | 480.70 | 266.00 | 319.20 | 531.05
55 | 152.00 | 163.40 | 233.70 | 316.35 | 487.35 | 268.85 | 323.95 | 543.40
56 | 153.90 | 164.35 | 237.50 | 321.10 | 494.00 | 273.60 | 328.70 | 543.40
57 | 154.85 | 166.25 | 240.35 | 325.85 | 500.65 | 276.45 | 333.45 | 554.80
58 | 155.80 | 167.20 | 243.20 | 330.60 | 506.35 | 281.20 | 338.20 | 554.80
59 | 157.70 | 169.10 | 247.00 | 335.35 | 513.00 | 284.05 | 342.95 | 567.15
60 | 158.65 | 171.00 | 249.85 | 340.10 | 519.65 | 288.80 | 347.70 | 567.15
61 | 160.55 | 171.95 | 253.65 | 344.85 | 526.30 | 291.65 | 352.45 | 581.40
62 | 161.50 | 172.90 | 256.50 | 348.65 | 532.00 | 297.35 | 357.20 | 581.40
63 | 162.45 | 174.80 | 260.30 | 353.40 | 539.60 | 299.25 | 361.95 | 595.65
64 | 163.40 | 175.75 | 263.15 | 358.15 | 542.45 | 304.95 | 366.70 | 595.65
65 | 164.35 | 177.65 | 266.95 | 362.90 | 552.90 | 306.85 | 371.45 | 609.90
66 | 165.30 | 178.60 | 269.80 | 367.65 | 552.90 | 312.55 | 376.20 | 609.90
67 | 166.25 | 180.50 | 272.65 | 372.40 | 563.35 | 314.45 | 380.95 | 624.15
68 | 167.20 | 182.40 | 276.45 | 377.15 | 565.25 | 320.15 | 385.70 | 624.15
69 | 168.15 | 183.35 | 279.30 | 381.90 | 573.80 | 322.05 | 390.45 | 638.40
70 | 169.10 | 184.30 | 283.10 | 386.65 | 573.80 | 327.75 | 395.20 | 638.40

216.362 Non-Document Rates With Standard Web Discount

Weight not over (lbs.) | Rate group 1 | Rate group 2 | Rate group 3 | Rate group 4 | Rate group 5 | Rate group 6 | Rate group 7 | Rate group 8
0.5 |  |  |  |  |  |  |  |
1 | 34.20 | 36.10 | 41.80 | 45.60 | 56.05 | 49.40 | 52.25 | 77.90
2 | 38.95 | 42.75 | 48.45 | 52.25 | 68.40 | 57.00 | 55.10 | 91.20
3 | 41.80 | 48.45 | 55.10 | 60.80 | 81.70 | 63.65 | 59.85 | 103.55
4 | 44.65 | 52.25 | 61.75 | 67.45 | 95.00 | 69.35 | 66.50 | 114.00
5 | 47.50 | 57.00 | 68.40 | 74.10 | 107.35 | 76.00 | 73.15 | 127.30
6 | 49.40 | 59.85 | 73.15 | 80.75 | 119.70 | 80.75 | 79.80 | 138.70
7 | 52.25 | 62.70 | 76.95 | 86.45 | 131.10 | 86.45 | 86.45 | 150.10
8 | 54.15 | 67.45 | 81.70 | 93.10 | 142.50 | 91.20 | 93.10 | 161.50
9 | 56.05 | 70.30 | 86.45 | 99.75 | 154.85 | 95.95 | 99.75 | 172.90
10 | 58.90 | 73.15 | 90.25 | 105.45 | 168.15 | 101.65 | 106.40 | 180.50
11 | 60.80 | 76.00 | 95.00 | 110.20 | 177.65 | 106.40 | 112.10 | 195.70
12 | 62.70 | 78.85 | 98.80 | 115.90 | 187.15 | 110.20 | 116.85 | 207.10
13 | 65.55 | 81.70 | 101.65 | 120.65 | 196.65 | 114.00 | 122.55 | 218.50
14 | 67.45 | 83.60 | 105.45 | 125.40 | 206.15 | 117.80 | 127.30 | 228.95
15 | 69.35 | 86.45 | 108.30 | 130.15 | 217.55 | 124.45 | 132.05 | 240.35
16 | 72.20 | 89.30 | 111.15 | 135.85 | 226.10 | 128.25 | 136.80 | 250.80
17 | 74.10 | 92.15 | 114.95 | 140.60 | 233.70 | 132.05 | 141.55 | 261.25
18 | 76.00 | 95.00 | 117.80 | 145.35 | 240.35 | 135.85 | 147.25 | 271.70
19 | 78.85 | 97.85 | 121.60 | 150.10 | 247.95 | 139.65 | 152.95 | 282.15
20 | 82.65 | 101.65 | 124.45 | 156.75 | 254.60 | 143.45 | 158.65 | 292.60
21 | 84.55 | 104.50 | 127.30 | 161.50 | 261.25 | 146.30 | 164.35 | 301.15
22 | 86.45 | 106.40 | 131.10 | 166.25 | 268.85 | 150.10 | 169.10 | 309.70
23 | 88.35 | 109.25 | 133.95 | 171.00 | 275.50 | 153.90 | 173.85 | 316.35
24 | 91.20 | 112.10 | 137.75 | 175.75 | 283.10 | 157.70 | 178.60 | 323.00
25 | 93.10 | 114.00 | 140.60 | 180.50 | 289.75 | 161.50 | 183.35 | 330.60
26 | 95.00 | 115.90 | 145.35 | 185.25 | 297.35 | 165.30 | 188.10 | 337.25
27 | 96.90 | 116.85 | 149.15 | 189.05 | 304.00 | 169.10 | 192.85 | 343.90
28 | 98.80 | 119.70 | 152.00 | 193.80 | 311.60 | 172.90 | 197.60 | 351.50
29 | 100.70 | 121.60 | 154.85 | 198.55 | 318.25 | 176.70 | 202.35 | 358.15
30 | 103.55 | 125.40 | 159.60 | 205.20 | 328.70 | 182.40 | 207.10 | 368.60
31 | 105.45 | 128.25 | 163.40 | 209.95 | 335.35 | 186.20 | 211.85 | 376.20
32 | 107.35 | 130.15 | 166.25 | 214.70 | 342.95 | 190.00 | 216.60 | 382.85
33 | 109.25 | 132.05 | 170.05 | 219.45 | 349.60 | 193.80 | 221.35 | 390.45
34 | 112.10 | 133.95 | 172.90 | 224.20 | 357.20 | 197.60 | 226.10 | 397.10
35 | 114.00 | 135.85 | 175.75 | 228.95 | 364.80 | 201.40 | 230.85 | 409.45
36 | 115.90 | 137.75 | 179.55 | 232.75 | 371.45 | 205.20 | 235.60 | 416.10
37 | 117.80 | 139.65 | 182.40 | 237.50 | 379.05 | 209.00 | 240.35 | 423.70
38 | 119.70 | 141.55 | 186.20 | 242.25 | 385.70 | 212.80 | 245.10 | 430.35
39 | 121.60 | 143.45 | 189.05 | 247.00 | 392.35 | 216.60 | 249.85 | 437.00
40 | 123.50 | 145.35 | 191.90 | 254.60 | 398.05 | 220.40 | 254.60 | 444.60
41 | 125.40 | 147.25 | 195.70 | 259.35 | 404.70 | 224.20 | 259.35 | 451.25
42 | 129.20 | 149.15 | 198.55 | 264.10 | 411.35 | 228.00 | 264.10 | 458.85
43 | 131.10 | 151.05 | 202.35 | 268.85 | 418.00 | 231.80 | 268.85 | 465.50
44 | 133.00 | 152.00 | 205.20 | 273.60 | 424.65 | 235.60 | 273.60 | 473.10
45 | 135.85 | 153.90 | 209.00 | 280.25 | 431.30 | 239.40 | 278.35 | 479.75
46 | 137.75 | 155.80 | 211.85 | 285.00 | 437.95 | 243.20 | 283.10 | 481.65
47 | 139.65 | 156.75 | 214.70 | 289.75 | 443.65 | 247.00 | 287.85 | 489.25
48 | 141.55 | 158.65 | 218.50 | 294.50 | 450.30 | 250.80 | 292.60 | 495.90
49 | 143.45 | 160.55 | 221.35 | 299.25 | 456.95 | 254.60 | 297.35 | 503.50
50 | 144.40 | 163.40 | 227.05 | 304.00 | 468.35 | 260.30 | 302.10 | 515.85
51 | 148.20 | 165.30 | 229.90 | 308.75 | 473.10 | 262.20 | 306.85 | 530.10
52 | 150.10 | 167.20 | 233.70 | 313.50 | 479.75 | 267.90 | 311.60 | 530.10
53 | 152.00 | 169.10 | 236.55 | 318.25 | 486.40 | 271.70 | 316.35 | 545.30
54 | 154.85 | 170.05 | 240.35 | 323.00 | 493.05 | 275.50 | 321.10 | 545.30
55 | 155.80 | 171.95 | 243.20 | 327.75 | 499.70 | 278.35 | 325.85 | 557.65
56 | 157.70 | 172.90 | 247.00 | 332.50 | 506.35 | 283.10 | 330.60 | 557.65
57 | 158.65 | 174.80 | 249.85 | 337.25 | 513.00 | 285.95 | 335.35 | 569.05
58 | 159.60 | 175.75 | 252.70 | 342.00 | 518.70 | 290.70 | 340.10 | 569.05
59 | 161.50 | 177.65 | 256.50 | 346.75 | 525.35 | 293.55 | 344.85 | 581.40
60 | 161.50 | 179.55 | 259.35 | 351.50 | 532.00 | 298.30 | 349.60 | 581.40
61 | 163.40 | 183.35 | 263.15 | 356.25 | 538.65 | 301.15 | 354.35 | 595.65
62 | 164.35 | 184.30 | 266.00 | 360.05 | 544.35 | 306.85 | 359.10 | 595.65
63 | 165.30 | 186.20 | 269.80 | 364.80 | 551.95 | 308.75 | 363.85 | 609.90
64 | 166.25 | 187.15 | 272.65 | 369.55 | 554.80 | 314.45 | 368.60 | 609.90
65 | 167.20 | 189.05 | 276.45 | 374.30 | 565.25 | 316.35 | 373.35 | 624.15
66 | 168.15 | 190.00 | 279.30 | 379.05 | 565.25 | 322.05 | 378.10 | 624.15
67 | 169.10 | 191.90 | 282.15 | 383.80 | 575.70 | 323.95 | 382.85 | 638.40
68 | 170.05 | 193.80 | 285.95 | 388.55 | 577.60 | 329.65 | 387.60 | 638.40
69 | 171.00 | 194.75 | 288.80 | 393.30 | 586.15 | 331.55 | 392.35 | 652.65
70 | 171.95 | 195.70 | 292.60 | 398.05 | 586.15 | 337.25 | 397.10 | 652.65

216.363 Document Rates With 5-Piece Discount

Weight not over (lbs.) | Rate group 1 | Rate group 2 | Rate group 3 | Rate group 4 | Rate group 5 | Rate group 6 | Rate group 7 | Rate group 8
0.5 | 20.48 | 20.50 | 23.08 | 23.40 | 31.50 | 27.10 | 30.50 | 45.50
1 | 25.41 | 24.80 | 27.91 | 31.50 | 36.40 | 32.90 | 34.50 | 52.50
2 | 29.26 | 28.00 | 31.74 | 36.40 | 45.50 | 38.50 | 39.00 | 62.30
3 | 30.80 | 32.20 | 36.57 | 41.30 | 55.30 | 43.40 | 45.00 | 70.70
4 | 33.11 | 35.00 | 41.40 | 46.20 | 65.10 | 47.60 | 51.00 | 78.40
5 | 35.42 | 38.50 | 46.23 | 51.10 | 74.20 | 52.50 | 56.25 | 86.80
6 | 36.96 | 40.60 | 49.68 | 56.00 | 83.30 | 56.00 | 61.50 | 95.20
7 | 39.27 | 42.70 | 52.44 | 60.20 | 91.70 | 60.20 | 66.75 | 103.60
8 | 40.81 | 45.50 | 55.20 | 65.10 | 100.10 | 63.70 | 72.00 | 112.00
9 | 42.35 | 47.60 | 58.65 | 70.00 | 109.20 | 67.20 | 77.25 | 120.40
10 | 44.66 | 49.00 | 61.41 | 72.80 | 115.50 | 71.40 | 82.50 | 126.00
11 | 46.20 | 51.10 | 63.48 | 76.30 | 122.50 | 73.50 | 87.00 | 133.70
12 | 47.74 | 53.20 | 66.24 | 80.50 | 129.50 | 76.30 | 91.50 | 142.10
13 | 50.05 | 55.30 | 68.31 | 84.00 | 136.50 | 79.10 | 95.25 | 150.50
14 | 51.59 | 56.70 | 71.07 | 87.50 | 143.50 | 81.90 | 99.00 | 158.20
15 | 53.13 | 58.80 | 73.14 | 91.00 | 149.80 | 84.70 | 102.75 | 166.60
16 | 55.44 | 60.90 | 75.21 | 95.20 | 156.10 | 87.50 | 106.50 | 174.30
17 | 56.98 | 62.30 | 77.97 | 98.70 | 161.70 | 90.30 | 110.25 | 182.00
18 | 58.52 | 64.40 | 80.04 | 102.20 | 166.60 | 93.10 | 114.75 | 189.70
19 | 61.83 | 67.50 | 82.80 | 105.70 | 172.20 | 95.90 | 119.25 | 197.40
20 | 63.37 | 68.90 | 85.87 | 109.20 | 177.10 | 98.70 | 123.75 | 205.10
21 | 64.91 | 71.00 | 87.94 | 112.70 | 182.00 | 100.80 | 128.25 | 211.40
22 | 66.45 | 72.40 | 90.70 | 116.20 | 187.60 | 103.60 | 132.00 | 217.70
23 | 67.99 | 74.50 | 92.77 | 119.70 | 192.50 | 106.40 | 135.75 | 222.60
24 | 70.30 | 76.60 | 95.53 | 123.20 | 198.10 | 109.20 | 139.50 | 227.50
25 | 72.84 | 79.00 | 98.60 | 126.70 | 203.00 | 112.00 | 143.25 | 233.10
26 | 74.38 | 81.10 | 100.67 | 130.20 | 208.60 | 114.80 | 147.00 | 238.00
27 | 76.92 | 83.50 | 103.43 | 133.00 | 213.50 | 117.60 | 150.75 | 242.90
28 | 78.46 | 85.60 | 105.50 | 136.50 | 219.10 | 120.40 | 154.50 | 248.50
29 | 80.00 | 87.00 | 107.57 | 140.00 | 224.00 | 123.20 | 158.25 | 253.40
30 | 82.31 | 89.80 | 111.02 | 144.90 | 231.70 | 127.40 | 162.00 | 261.10
31 | 84.85 | 92.90 | 114.78 | 148.40 | 236.60 | 130.20 | 165.75 | 266.70
32 | 86.39 | 94.30 | 116.85 | 151.90 | 242.20 | 133.00 | 169.50 | 271.60
33 | 88.93 | 96.70 | 119.61 | 155.40 | 247.10 | 135.80 | 173.25 | 277.20
34 | 91.24 | 97.40 | 121.68 | 158.90 | 252.70 | 138.60 | 177.00 | 282.10
35 | 93.78 | 99.80 | 123.75 | 162.40 | 258.30 | 141.40 | 180.75 | 287.70
36 | 95.32 | 101.20 | 127.51 | 165.20 | 263.20 | 144.20 | 184.50 | 292.60
37 | 97.86 | 103.60 | 129.58 | 168.70 | 268.80 | 147.00 | 188.25 | 298.20
38 | 99.40 | 105.00 | 132.34 | 172.20 | 273.70 | 149.80 | 192.00 | 303.10
39 | 101.94 | 107.40 | 134.41 | 175.70 | 278.60 | 152.60 | 195.75 | 308.00
40 | 103.48 | 108.80 | 136.48 | 179.20 | 282.80 | 155.40 | 199.50 | 313.60
41 | 106.02 | 111.20 | 140.24 | 182.70 | 287.70 | 158.20 | 203.25 | 318.50
42 | 109.10 | 112.60 | 142.31 | 186.20 | 292.60 | 161.00 | 207.00 | 324.10
43 | 110.64 | 114.00 | 145.07 | 189.70 | 297.50 | 163.80 | 210.75 | 329.00
44 | 112.18 | 114.70 | 148.14 | 193.20 | 302.40 | 166.60 | 214.50 | 334.60
45 | 115.49 | 117.10 | 151.90 | 196.00 | 307.30 | 169.40 | 218.25 | 339.50
46 | 117.03 | 118.50 | 154.97 | 199.50 | 312.20 | 172.20 | 222.00 | 344.40
47 | 118.57 | 119.20 | 158.04 | 203.00 | 316.40 | 175.00 | 225.75 | 350.00
48 | 121.11 | 121.60 | 161.80 | 206.50 | 321.30 | 177.80 | 229.50 | 354.90
49 | 123.42 | 123.00 | 163.87 | 210.00 | 326.20 | 180.60 | 233.25 | 360.50
50 | 125.96 | 126.10 | 168.01 | 215.60 | 334.60 | 184.80 | 237.00 | 369.60
51 | 129.04 | 127.50 | 170.08 | 219.10 | 339.50 | 184.80 | 240.75 | 380.10
52 | 130.58 | 129.90 | 172.84 | 222.60 | 344.40 | 190.40 | 244.50 | 380.10
53 | 132.12 | 132.30 | 174.91 | 226.10 | 349.30 | 193.20 | 248.25 | 391.30
54 | 134.43 | 134.00 | 177.67 | 229.60 | 354.20 | 196.00 | 252.00 | 391.30
55 | 136.20 | 136.40 | 179.74 | 233.10 | 359.10 | 198.10 | 255.75 | 400.40
56 | 137.74 | 138.10 | 182.50 | 236.60 | 364.00 | 201.60 | 259.50 | 400.40
57 | 140.51 | 140.50 | 185.57 | 240.10 | 368.90 | 203.70 | 263.25 | 408.80
58 | 142.28 | 142.20 | 188.64 | 243.60 | 373.10 | 207.20 | 267.00 | 408.80
59 | 144.82 | 144.60 | 191.40 | 247.10 | 378.00 | 209.30 | 270.75 | 417.90
60 | 146.59 | 147.00 | 194.47 | 250.60 | 382.90 | 212.80 | 274.50 | 417.90
61 | 149.13 | 148.70 | 197.23 | 254.10 | 387.80 | 214.90 | 278.25 | 428.40
62 | 150.90 | 150.40 | 199.30 | 256.90 | 392.00 | 219.10 | 282.00 | 428.40
63 | 152.67 | 152.80 | 202.06 | 260.40 | 397.60 | 220.50 | 285.75 | 438.90
64 | 154.44 | 154.50 | 206.13 | 263.90 | 399.70 | 224.70 | 289.50 | 438.90
65 | 156.21 | 156.90 | 208.89 | 267.40 | 407.40 | 226.10 | 293.25 | 449.40
66 | 157.98 | 158.60 | 210.96 | 270.90 | 407.40 | 230.30 | 297.00 | 449.40
67 | 159.75 | 161.00 | 215.03 | 274.40 | 415.10 | 231.70 | 300.75 | 459.90
68 | 161.52 | 163.40 | 217.79 | 277.90 | 416.50 | 235.90 | 304.50 | 459.90
69 | 164.29 | 165.10 | 219.86 | 281.40 | 422.80 | 237.30 | 308.25 | 470.40
70 | 166.06 | 166.80 | 222.62 | 284.90 | 422.80 | 241.50 | 312.00 | 470.40

216.364 Non-Document Rates With 5-Piece Discount

Weight not over (lbs.) | Rate group 1 | Rate group 2 | Rate group 3 | Rate group 4 | Rate group 5 | Rate group 6 | Rate group 7 | Rate group 8
0.5 |  |  |  |  |  |  |  |
1 | 27.72 | 28.60 | 34.04 | 36.60 | 46.30 | 40.40 | 49.25 | 59.04
2 | 31.57 | 31.50 | 36.66 | 39.50 | 52.40 | 43.00 | 51.50 | 69.12
3 | 33.88 | 35.70 | 39.28 | 44.80 | 60.20 | 46.90 | 55.25 | 78.48
4 | 36.19 | 38.50 | 42.90 | 49.70 | 70.00 | 51.10 | 59.50 | 86.40
5 | 38.50 | 42.00 | 47.52 | 54.60 | 79.10 | 56.00 | 62.75 | 96.48
6 | 40.04 | 44.10 | 50.82 | 59.50 | 88.20 | 59.50 | 68.00 | 105.12
7 | 42.35 | 46.20 | 53.46 | 63.70 | 96.60 | 63.70 | 71.25 | 113.76
8 | 43.89 | 49.70 | 56.76 | 68.60 | 105.00 | 67.20 | 75.50 | 122.40
9 | 45.43 | 51.80 | 60.06 | 73.50 | 114.10 | 70.70 | 78.75 | 131.04
10 | 47.74 | 53.90 | 62.70 | 77.70 | 123.90 | 74.90 | 84.00 | 136.80
11 | 49.28 | 56.00 | 66.00 | 81.20 | 130.90 | 78.40 | 88.50 | 148.32
12 | 50.82 | 58.10 | 68.64 | 85.40 | 137.90 | 81.20 | 92.25 | 156.96
13 | 53.13 | 60.20 | 70.62 | 88.90 | 144.90 | 84.00 | 96.75 | 165.60
14 | 54.67 | 61.60 | 73.26 | 92.40 | 151.90 | 86.80 | 100.50 | 173.52
15 | 56.21 | 63.70 | 75.24 | 95.90 | 160.30 | 91.70 | 104.25 | 182.16
16 | 58.52 | 65.80 | 77.22 | 100.10 | 166.60 | 94.50 | 108.00 | 190.08
17 | 60.06 | 67.90 | 79.86 | 103.60 | 172.20 | 97.30 | 111.75 | 198.00
18 | 61.60 | 70.00 | 81.84 | 107.10 | 177.10 | 100.10 | 116.25 | 205.92
19 | 65.91 | 74.10 | 84.48 | 110.60 | 182.70 | 102.90 | 120.75 | 213.84
20 | 68.99 | 76.90 | 88.46 | 115.50 | 187.60 | 105.70 | 125.25 | 221.76
21 | 70.53 | 79.00 | 90.44 | 119.00 | 192.50 | 107.80 | 129.75 | 228.24
22 | 74.07 | 82.40 | 95.08 | 122.50 | 198.10 | 110.60 | 133.50 | 234.72
23 | 75.61 | 84.50 | 97.06 | 126.00 | 203.00 | 113.40 | 137.25 | 239.76
24 | 78.92 | 87.60 | 100.70 | 129.50 | 208.60 | 116.20 | 141.00 | 244.80
25 | 80.46 | 89.00 | 102.68 | 133.00 | 213.50 | 119.00 | 144.75 | 250.56
26 | 83.00 | 91.40 | 106.98 | 136.50 | 219.10 | 121.80 | 148.50 | 255.60
27 | 84.54 | 92.10 | 109.62 | 139.30 | 224.00 | 124.60 | 152.25 | 260.64
28 | 87.08 | 95.20 | 112.60 | 142.80 | 229.60 | 127.40 | 156.00 | 266.40
29 | 88.62 | 96.60 | 114.58 | 146.30 | 234.50 | 130.20 | 159.75 | 271.44
30 | 90.93 | 99.40 | 117.88 | 151.20 | 242.20 | 134.40 | 163.50 | 279.36
31 | 92.47 | 101.50 | 120.52 | 154.70 | 247.10 | 137.20 | 167.25 | 285.12
32 | 94.01 | 102.90 | 122.50 | 158.20 | 252.70 | 140.00 | 171.00 | 290.16
33 | 97.55 | 106.30 | 127.14 | 161.70 | 257.60 | 142.80 | 174.75 | 295.92
34 | 99.86 | 107.70 | 129.12 | 165.20 | 263.20 | 145.60 | 178.50 | 300.96
35 | 101.40 | 109.10 | 131.10 | 168.70 | 268.80 | 148.40 | 182.25 | 310.32
36 | 102.94 | 110.50 | 133.74 | 171.50 | 273.70 | 151.20 | 186.00 | 315.36
37 | 104.48 | 111.90 | 135.72 | 175.00 | 279.30 | 154.00 | 189.75 | 321.12
38 | 106.02 | 113.30 | 138.36 | 178.50 | 284.20 | 156.80 | 193.50 | 326.16
39 | 107.56 | 114.70 | 140.34 | 182.00 | 289.10 | 159.60 | 197.25 | 331.20
40 | 112.10 | 119.10 | 145.32 | 187.60 | 293.30 | 162.40 | 201.00 | 336.96
41 | 113.64 | 120.50 | 147.96 | 191.10 | 298.20 | 165.20 | 204.75 | 342.00
42 | 118.72 | 123.90 | 151.94 | 194.60 | 303.10 | 168.00 | 208.50 | 347.76
43 | 120.26 | 125.30 | 154.58 | 198.10 | 308.00 | 170.80 | 212.25 | 352.80
44 | 121.80 | 126.00 | 156.56 | 201.60 | 312.90 | 173.60 | 216.00 | 358.56
45 | 124.11 | 127.40 | 159.20 | 206.50 | 317.80 | 176.40 | 219.75 | 363.60
46 | 126.65 | 129.80 | 162.18 | 210.00 | 322.70 | 179.20 | 223.50 | 365.04
47 | 128.19 | 130.50 | 164.16 | 213.50 | 326.90 | 182.00 | 227.25 | 370.80
48 | 131.73 | 133.90 | 168.80 | 217.00 | 331.80 | 184.80 | 231.00 | 375.84
49 | 133.27 | 135.30 | 170.78 | 220.50 | 336.70 | 187.60 | 234.75 | 381.60
50 | 134.04 | 137.40 | 174.74 | 224.00 | 345.10 | 191.80 | 238.50 | 390.96
51 | 137.12 | 138.80 | 176.72 | 227.50 | 348.60 | 193.20 | 242.25 | 401.76
52 | 138.66 | 140.20 | 179.36 | 231.00 | 353.50 | 197.40 | 246.00 | 401.76
53 | 142.20 | 143.60 | 183.34 | 234.50 | 358.40 | 200.20 | 249.75 | 413.28
54 | 144.51 | 144.30 | 185.98 | 238.00 | 363.30 | 203.00 | 253.50 | 413.28
55 | 145.28 | 145.70 | 187.96 | 241.50 | 368.20 | 205.10 | 257.25 | 422.64
56 | 146.82 | 146.40 | 190.60 | 245.00 | 373.10 | 208.60 | 261.00 | 422.64
57 | 148.59 | 148.80 | 193.58 | 248.50 | 378.00 | 210.70 | 264.75 | 431.28
58 | 149.36 | 149.50 | 195.56 | 252.00 | 382.20 | 214.20 | 268.50 | 431.28
59 | 150.90 | 150.90 | 198.20 | 255.50 | 387.10 | 216.30 | 272.25 | 440.64
60 | 150.90 | 152.30 | 200.18 | 259.00 | 392.00 | 219.80 | 276.00 | 440.64
61 | 154.44 | 157.10 | 204.82 | 262.50 | 396.90 | 221.90 | 279.75 | 451.44
62 | 155.21 | 157.80 | 206.80 | 265.30 | 401.10 | 226.10 | 283.50 | 451.44
63 | 155.98 | 159.20 | 209.44 | 268.80 | 406.70 | 227.50 | 287.25 | 462.24
64 | 158.75 | 161.90 | 213.42 | 272.30 | 408.80 | 231.70 | 291.00 | 462.24
65 | 159.52 | 163.30 | 216.06 | 275.80 | 416.50 | 233.10 | 294.75 | 473.04
66 | 160.29 | 164.00 | 218.04 | 279.30 | 416.50 | 237.30 | 298.50 | 473.04
67 | 161.06 | 165.40 | 220.02 | 282.80 | 424.20 | 238.70 | 302.25 | 483.84
68 | 162.83 | 167.80 | 223.66 | 286.30 | 425.60 | 242.90 | 306.00 | 483.84
69 | 163.60 | 168.50 | 225.64 | 289.80 | 431.90 | 244.30 | 309.75 | 494.64
70 | 164.37 | 169.20 | 228.28 | 293.30 | 431.90 | 248.50 | 313.50 | 494.64

216.365 Document Rates With 12-Piece Discount

Weight not over (lbs.) | Rate group 1 | Rate group 2 | Rate group 3 | Rate group 4 | Rate group 5 | Rate group 6 | Rate group 7 | Rate group 8
0.5 | 20.00 | 20.00 | 22.44 | 22.76 | 30.60 | 26.44 | 29.48 | 44.20
1 | 24.75 | 24.12 | 27.13 | 30.60 | 35.36 | 31.96 | 33.12 | 51.00
2 | 28.50 | 27.20 | 30.82 | 35.36 | 44.20 | 37.40 | 37.44 | 60.52
3 | 30.00 | 31.28 | 35.51 | 40.12 | 53.72 | 42.16 | 43.20 | 68.68
4 | 32.25 | 34.00 | 40.20 | 44.88 | 63.24 | 46.24 | 48.96 | 76.16
5 | 34.50 | 37.40 | 44.89 | 49.64 | 72.08 | 51.00 | 54.00 | 84.32
6 | 36.00 | 39.44 | 48.24 | 54.40 | 80.92 | 54.40 | 59.04 | 92.48
7 | 38.25 | 41.48 | 50.92 | 58.48 | 89.08 | 58.48 | 64.08 | 100.64
8 | 39.75 | 44.20 | 53.60 | 63.24 | 97.24 | 61.88 | 69.12 | 108.80
9 | 41.25 | 46.24 | 56.95 | 68.00 | 106.08 | 65.28 | 74.16 | 116.96
10 | 43.50 | 47.60 | 59.63 | 70.72 | 112.20 | 69.36 | 79.20 | 122.40
11 | 45.00 | 49.64 | 61.64 | 74.12 | 119.00 | 71.40 | 83.52 | 129.88
12 | 46.50 | 51.68 | 64.32 | 78.20 | 125.80 | 74.12 | 87.84 | 138.04
13 | 48.75 | 53.72 | 66.33 | 81.60 | 132.60 | 76.84 | 91.44 | 146.20
14 | 50.25 | 55.08 | 69.01 | 85.00 | 139.40 | 79.56 | 95.04 | 153.68
15 | 51.75 | 57.12 | 71.02 | 88.40 | 145.52 | 82.28 | 98.64 | 161.84
16 | 54.00 | 59.16 | 73.03 | 92.48 | 151.64 | 85.00 | 102.24 | 169.32
17 | 55.50 | 60.52 | 75.71 | 95.88 | 157.08 | 87.72 | 105.84 | 176.80
18 | 57.00 | 62.56 | 77.72 | 99.28 | 161.84 | 90.44 | 110.16 | 184.28
19 | 60.25 | 65.60 | 80.40 | 102.68 | 167.28 | 93.16 | 114.48 | 191.76
20 | 61.75 | 66.96 | 83.41 | 106.08 | 172.04 | 95.88 | 118.80 | 199.24
21 | 63.25 | 69.00 | 85.42 | 109.48 | 176.80 | 97.92 | 123.12 | 205.36
22 | 64.75 | 70.36 | 88.10 | 112.88 | 182.24 | 100.64 | 126.72 | 211.48
23 | 66.25 | 72.40 | 90.11 | 116.28 | 187.00 | 103.36 | 130.32 | 216.24
24 | 68.50 | 74.44 | 92.79 | 119.68 | 192.44 | 106.08 | 133.92 | 221.00
25 | 71.00 | 76.80 | 95.80 | 123.08 | 197.20 | 108.80 | 137.52 | 226.44
26 | 72.50 | 78.84 | 97.81 | 126.48 | 202.64 | 111.52 | 141.12 | 231.20
27 | 75.00 | 81.20 | 100.49 | 129.20 | 207.40 | 114.24 | 144.72 | 235.96
28 | 76.50 | 83.24 | 102.50 | 132.60 | 212.84 | 116.96 | 148.32 | 241.40
29 | 78.00 | 84.60 | 104.51 | 136.00 | 217.60 | 119.68 | 151.92 | 246.16
30 | 80.25 | 87.32 | 107.86 | 140.76 | 225.08 | 123.76 | 155.52 | 253.64
31 | 82.75 | 90.36 | 111.54 | 144.16 | 229.84 | 126.48 | 159.12 | 259.08
32 | 84.25 | 91.72 | 113.55 | 147.56 | 235.28 | 129.20 | 162.72 | 263.84
33 | 86.75 | 94.08 | 116.23 | 150.96 | 240.04 | 131.92 | 166.32 | 269.28
34 | 89.00 | 94.76 | 118.24 | 154.36 | 245.48 | 134.64 | 169.92 | 274.04
35 | 91.50 | 97.12 | 120.25 | 157.76 | 250.92 | 137.36 | 173.52 | 279.48
36 | 93.00 | 98.48 | 123.93 | 160.48 | 255.68 | 140.08 | 177.12 | 284.24
37 | 95.50 | 100.84 | 125.94 | 163.88 | 261.12 | 142.80 | 180.72 | 289.68
38 | 97.00 | 102.20 | 128.62 | 167.28 | 265.88 | 145.52 | 184.32 | 294.44
39 | 99.50 | 104.56 | 130.63 | 170.68 | 270.64 | 148.24 | 187.92 | 299.20
40 | 101.00 | 105.92 | 132.64 | 174.08 | 274.72 | 150.96 | 191.52 | 304.64
41 | 103.50 | 108.28 | 136.32 | 177.48 | 279.48 | 153.68 | 195.12 | 309.40
42 | 106.50 | 109.64 | 138.33 | 180.88 | 284.24 | 156.40 | 198.72 | 314.84
43 | 108.00 | 111.00 | 141.01 | 184.28 | 289.00 | 159.12 | 202.32 | 319.60
44 | 109.50 | 111.68 | 144.02 | 187.68 | 293.76 | 161.84 | 205.92 | 325.04
45 | 112.75 | 114.04 | 147.70 | 190.40 | 298.52 | 164.56 | 209.52 | 329.80
46 | 114.25 | 115.40 | 150.71 | 193.80 | 303.28 | 167.28 | 213.12 | 334.56
47 | 115.75 | 116.08 | 153.72 | 197.20 | 307.36 | 170.00 | 216.72 | 340.00
48 | 118.25 | 118.44 | 157.40 | 200.60 | 312.12 | 172.72 | 220.32 | 344.76
49 | 120.50 | 119.80 | 159.41 | 204.00 | 316.88 | 175.44 | 223.92 | 350.20
50 | 123.00 | 122.84 | 163.43 | 209.44 | 325.04 | 179.52 | 227.52 | 359.04
51 | 126.00 | 124.20 | 165.44 | 212.84 | 329.80 | 179.52 | 231.12 | 369.24
52 | 127.50 | 126.56 | 168.12 | 216.24 | 334.56 | 184.96 | 234.72 | 369.24
53 | 129.00 | 128.92 | 170.13 | 219.64 | 339.32 | 187.68 | 238.32 | 380.12
54 | 131.25 | 130.60 | 172.81 | 223.04 | 344.08 | 190.40 | 241.92 | 380.12
55 | 133.00 | 132.96 | 174.82 | 226.44 | 348.84 | 192.44 | 245.52 | 388.96
56 | 134.50 | 134.64 | 177.50 | 229.84 | 353.60 | 195.84 | 249.12 | 388.96
57 | 137.25 | 137.00 | 180.51 | 233.24 | 358.36 | 197.88 | 252.72 | 397.12
58 | 139.00 | 138.68 | 183.52 | 236.64 | 362.44 | 201.28 | 256.32 | 397.12
59 | 141.50 | 141.04 | 186.20 | 240.04 | 367.20 | 203.32 | 259.92 | 405.96
60 | 143.25 | 143.40 | 189.21 | 243.44 | 371.96 | 206.72 | 263.52 | 405.96
61 | 145.75 | 145.08 | 191.89 | 246.84 | 376.72 | 208.76 | 267.12 | 416.16
62 | 147.50 | 146.76 | 193.90 | 249.56 | 380.80 | 212.84 | 270.72 | 416.16
63 | 149.25 | 149.12 | 196.58 | 252.96 | 386.24 | 214.20 | 274.32 | 426.36
64 | 151.00 | 150.80 | 200.59 | 256.36 | 388.28 | 218.28 | 277.92 | 426.36
65 | 152.75 | 153.16 | 203.27 | 259.76 | 395.76 | 219.64 | 281.52 | 436.56
66 | 154.50 | 154.84 | 205.28 | 263.16 | 395.76 | 223.72 | 285.12 | 436.56
67 | 156.25 | 157.20 | 209.29 | 266.56 | 403.24 | 225.08 | 288.72 | 446.76
68 | 158.00 | 159.56 | 211.97 | 269.96 | 404.60 | 229.16 | 292.32 | 446.76
69 | 160.75 | 161.24 | 213.98 | 273.36 | 410.72 | 230.52 | 295.92 | 456.96
70 | 162.50 | 162.92 | 216.66 | 276.76 | 410.72 | 234.60 | 299.52 | 456.96

216.366 Non-Document Rates With 12-Piece Discount

Weight not over (lbs.) | Rate group 1 | Rate group 2 | Rate group 3 | Rate group 4 | Rate group 5 | Rate group 6 | Rate group 7 | Rate group 8
0.5 |  |  |  |  |  |  |  |
1 | 27.00 | 27.46 | 33.16 | 34.20 | 43.35 | 37.28 | 45.40 | 55.76
2 | 30.75 | 30.15 | 35.64 | 36.75 | 48.80 | 39.40 | 47.44 | 65.28
3 | 33.00 | 34.17 | 38.12 | 41.60 | 55.90 | 42.88 | 50.84 | 74.12
4 | 35.25 | 36.85 | 41.60 | 46.15 | 65.00 | 46.72 | 54.60 | 81.60
5 | 37.50 | 40.20 | 46.08 | 50.70 | 73.45 | 51.20 | 57.36 | 91.12
6 | 39.00 | 42.21 | 49.28 | 55.25 | 81.90 | 54.40 | 62.12 | 99.28
7 | 41.25 | 44.22 | 51.84 | 59.15 | 89.70 | 58.24 | 64.88 | 107.44
8 | 42.75 | 47.57 | 55.04 | 63.70 | 97.50 | 61.44 | 68.64 | 115.60
9 | 44.25 | 49.58 | 58.24 | 68.25 | 105.95 | 64.64 | 71.40 | 123.76
10 | 46.50 | 51.59 | 60.80 | 72.15 | 115.05 | 68.48 | 76.16 | 129.20
11 | 48.00 | 53.60 | 64.00 | 75.40 | 121.55 | 71.68 | 80.24 | 140.08
12 | 49.50 | 55.61 | 66.56 | 79.30 | 128.05 | 74.24 | 83.64 | 148.24
13 | 51.75 | 57.62 | 68.48 | 82.55 | 134.55 | 76.80 | 87.72 | 156.40
14 | 53.25 | 58.96 | 71.04 | 85.80 | 141.05 | 79.36 | 91.12 | 163.88
15 | 54.75 | 60.97 | 72.96 | 89.05 | 148.85 | 83.84 | 94.52 | 172.04
16 | 57.00 | 62.98 | 74.88 | 92.95 | 154.70 | 86.40 | 97.92 | 179.52
17 | 58.50 | 64.99 | 77.44 | 96.20 | 159.90 | 88.96 | 101.32 | 187.00
18 | 60.00 | 67.00 | 79.36 | 99.45 | 164.45 | 91.52 | 105.40 | 194.48
19 | 64.25 | 71.01 | 81.92 | 102.70 | 169.65 | 94.08 | 109.48 | 201.96
20 | 67.25 | 73.69 | 85.84 | 107.25 | 174.20 | 96.64 | 113.56 | 209.44
21 | 68.75 | 75.70 | 87.76 | 110.50 | 178.75 | 98.56 | 117.64 | 215.56
22 | 72.25 | 79.04 | 92.32 | 113.75 | 183.95 | 101.12 | 121.04 | 221.68
23 | 73.75 | 81.05 | 94.24 | 117.00 | 188.50 | 103.68 | 124.44 | 226.44
24 | 77.00 | 84.06 | 97.80 | 120.25 | 193.70 | 106.24 | 127.84 | 231.20
25 | 78.50 | 85.40 | 99.72 | 123.50 | 198.25 | 108.80 | 131.24 | 236.64
26 | 81.00 | 87.74 | 103.92 | 126.75 | 203.45 | 111.36 | 134.64 | 241.40
27 | 82.50 | 88.41 | 106.48 | 129.35 | 208.00 | 113.92 | 138.04 | 246.16
28 | 85.00 | 91.42 | 109.40 | 132.60 | 213.20 | 116.48 | 141.44 | 251.60
29 | 86.50 | 92.76 | 111.32 | 135.85 | 217.75 | 119.04 | 144.84 | 256.36
30 | 88.75 | 95.44 | 114.52 | 140.40 | 224.90 | 122.88 | 148.24 | 263.84
31 | 90.25 | 97.45 | 117.08 | 143.65 | 229.45 | 125.44 | 151.64 | 269.28
32 | 91.75 | 98.79 | 119.00 | 146.90 | 234.65 | 128.00 | 155.04 | 274.04
33 | 95.25 | 102.13 | 123.56 | 150.15 | 239.20 | 130.56 | 158.44 | 279.48
34 | 97.50 | 103.47 | 125.48 | 153.40 | 244.40 | 133.12 | 161.84 | 284.24
35 | 99.00 | 104.81 | 127.40 | 156.65 | 249.60 | 135.68 | 165.24 | 293.08
36 | 100.50 | 106.15 | 129.96 | 159.25 | 254.15 | 138.24 | 168.64 | 297.84
37 | 102.00 | 107.49 | 131.88 | 162.50 | 259.35 | 140.80 | 172.04 | 303.28
38 | 103.50 | 108.83 | 134.44 | 165.75 | 263.90 | 143.36 | 175.44 | 308.04
39 | 105.00 | 110.17 | 136.36 | 169.00 | 268.45 | 145.92 | 178.84 | 312.80
40 | 109.50 | 114.51 | 141.28 | 174.20 | 272.35 | 148.48 | 182.24 | 318.24
41 | 111.00 | 115.85 | 143.84 | 177.45 | 276.90 | 151.04 | 185.64 | 323.00
42 | 116.00 | 119.19 | 147.76 | 180.70 | 281.45 | 153.60 | 189.04 | 328.44
43 | 117.50 | 120.53 | 150.32 | 183.95 | 286.00 | 156.16 | 192.44 | 333.20
44 | 119.00 | 121.20 | 152.24 | 187.20 | 290.55 | 158.72 | 195.84 | 338.64
45 | 121.25 | 122.54 | 154.80 | 191.75 | 295.10 | 161.28 | 199.24 | 343.40
46 | 123.75 | 124.88 | 157.72 | 195.00 | 299.65 | 163.84 | 202.64 | 344.76
47 | 125.25 | 125.55 | 159.64 | 198.25 | 303.55 | 166.40 | 206.04 | 350.20
48 | 128.75 | 128.89 | 164.20 | 201.50 | 308.10 | 168.96 | 209.44 | 354.96
49 | 130.25 | 130.23 | 166.12 | 204.75 | 312.65 | 171.52 | 212.84 | 360.40
50 | 131.00 | 132.24 | 169.96 | 208.00 | 320.45 | 175.36 | 216.24 | 369.24
51 | 134.00 | 133.58 | 171.88 | 211.25 | 323.70 | 176.64 | 219.64 | 379.44
52 | 135.50 | 134.92 | 174.44 | 214.50 | 328.25 | 180.48 | 223.04 | 379.44
53 | 139.00 | 138.26 | 178.36 | 217.75 | 332.80 | 183.04 | 226.44 | 390.32
54 | 141.25 | 138.93 | 180.92 | 221.00 | 337.35 | 185.60 | 229.84 | 390.32
55 | 142.00 | 140.27 | 182.84 | 224.25 | 341.90 | 187.52 | 233.24 | 399.16
56 | 143.50 | 140.94 | 185.40 | 227.50 | 346.45 | 190.72 | 236.64 | 399.16
57 | 145.25 | 143.28 | 188.32 | 230.75 | 351.00 | 192.64 | 240.04 | 407.32
58 | 146.00 | 143.95 | 190.24 | 234.00 | 354.90 | 195.84 | 243.44 | 407.32
59 | 147.50 | 145.29 | 192.80 | 237.25 | 359.45 | 197.76 | 246.84 | 416.16
60 | 147.50 | 146.63 | 194.72 | 240.50 | 364.00 | 200.96 | 250.24 | 416.16
61 | 151.00 | 151.31 | 199.28 | 243.75 | 368.55 | 202.88 | 253.64 | 426.36
62 | 151.75 | 151.98 | 201.20 | 246.35 | 372.45 | 206.72 | 257.04 | 426.36
63 | 152.50 | 153.32 | 203.76 | 249.60 | 377.65 | 208.00 | 260.44 | 436.56
64 | 155.25 | 155.99 | 207.68 | 252.85 | 379.60 | 211.84 | 263.84 | 436.56
65 | 156.00 | 157.33 | 210.24 | 256.10 | 386.75 | 213.12 | 267.24 | 446.76
66 | 156.75 | 158.00 | 212.16 | 259.35 | 386.75 | 216.96 | 270.64 | 446.76
67 | 157.50 | 159.34 | 214.08 | 262.60 | 393.90 | 218.24 | 274.04 | 456.96
68 | 159.25 | 161.68 | 217.64 | 265.85 | 395.20 | 222.08 | 277.44 | 456.96
69 | 160.00 | 162.35 | 219.56 | 269.10 | 401.05 | 223.36 | 280.84 | 467.16
70 | 160.75 | 163.02 | 222.12 | 272.35 | 401.05 | 227.20 | 284.24 | 467.16

216.367 Document Rates With 20-Piece Discount

Weight not over (lbs.) | Rate group 1 | Rate group 2 | Rate group 3 | Rate group 4 | Rate group 5 | Rate group 6 | Rate group 7 | Rate group 8
0.5 | 19.52 | 19.25 | 21.80 | 21.80 | 29.25 | 25.45 | 28.80 | 42.25
1 | 24.09 | 23.10 | 26.35 | 29.25 | 33.80 | 30.55 | 32.20 | 48.75
2 | 27.74 | 26.00 | 29.90 | 33.80 | 42.25 | 35.75 | 36.40 | 57.85
3 | 29.20 | 29.90 | 34.45 | 38.35 | 51.35 | 40.30 | 42.00 | 65.65
4 | 31.39 | 32.50 | 39.00 | 42.90 | 60.45 | 44.20 | 47.60 | 72.80
5 | 33.58 | 35.75 | 43.55 | 47.45 | 68.90 | 48.75 | 52.50 | 80.60
6 | 35.04 | 37.70 | 46.80 | 52.00 | 77.35 | 52.00 | 57.40 | 88.40
7 | 37.23 | 39.65 | 49.40 | 55.90 | 85.15 | 55.90 | 62.30 | 96.20
8 | 38.69 | 42.25 | 52.00 | 60.45 | 92.95 | 59.15 | 67.20 | 104.00
9 | 40.15 | 44.20 | 55.25 | 65.00 | 101.40 | 62.40 | 72.10 | 111.80
10 | 42.34 | 45.50 | 57.85 | 67.60 | 107.25 | 66.30 | 77.00 | 117.00
11 | 43.80 | 47.45 | 59.80 | 70.85 | 113.75 | 68.25 | 81.20 | 124.15
12 | 45.26 | 49.40 | 62.40 | 74.75 | 120.25 | 70.85 | 85.40 | 131.95
13 | 47.45 | 51.35 | 64.35 | 78.00 | 126.75 | 73.45 | 88.90 | 139.75
14 | 48.91 | 52.65 | 66.95 | 81.25 | 133.25 | 76.05 | 92.40 | 146.90
15 | 50.37 | 54.60 | 68.90 | 84.50 | 139.10 | 78.65 | 95.90 | 154.70
16 | 52.56 | 56.55 | 70.85 | 88.40 | 144.95 | 81.25 | 99.40 | 161.85
17 | 54.02 | 57.85 | 73.45 | 91.65 | 150.15 | 83.85 | 102.90 | 169.00
18 | 55.48 | 59.80 | 75.40 | 94.90 | 154.70 | 86.45 | 107.10 | 176.15
19 | 58.67 | 62.75 | 78.00 | 98.15 | 159.90 | 89.05 | 111.30 | 183.30
20 | 60.13 | 64.05 | 80.95 | 101.40 | 164.45 | 91.65 | 115.50 | 190.45
21 | 61.59 | 66.00 | 82.90 | 104.65 | 169.00 | 93.60 | 119.70 | 196.30
22 | 63.05 | 67.30 | 85.50 | 107.90 | 174.20 | 96.20 | 123.20 | 202.15
23 | 64.51 | 69.25 | 87.45 | 111.15 | 178.75 | 98.80 | 126.70 | 206.70
24 | 66.70 | 71.20 | 90.05 | 114.40 | 183.95 | 101.40 | 130.20 | 211.25
25 | 69.16 | 73.50 | 93.00 | 117.65 | 188.50 | 104.00 | 133.70 | 216.45
26 | 70.62 | 75.45 | 94.95 | 120.90 | 193.70 | 106.60 | 137.20 | 221.00
27 | 73.08 | 77.75 | 97.55 | 123.50 | 198.25 | 109.20 | 140.70 | 225.55
28 | 74.54 | 79.70 | 99.50 | 126.75 | 203.45 | 111.80 | 144.20 | 230.75
29 | 76.00 | 81.00 | 101.45 | 130.00 | 208.00 | 114.40 | 147.70 | 235.30
30 | 78.19 | 83.60 | 104.70 | 134.55 | 215.15 | 118.30 | 151.20 | 242.45
31 | 80.65 | 86.55 | 108.30 | 137.80 | 219.70 | 120.90 | 154.70 | 247.65
32 | 82.11 | 87.85 | 110.25 | 141.05 | 224.90 | 123.50 | 158.20 | 252.20
33 | 84.57 | 90.15 | 112.85 | 144.30 | 229.45 | 126.10 | 161.70 | 257.40
34 | 86.76 | 90.80 | 114.80 | 147.55 | 234.65 | 128.70 | 165.20 | 261.95
35 | 89.22 | 93.10 | 116.75 | 150.80 | 239.85 | 131.30 | 168.70 | 267.15
36 | 90.68 | 94.40 | 120.35 | 153.40 | 244.40 | 133.90 | 172.20 | 271.70
37 | 93.14 | 96.70 | 122.30 | 156.65 | 249.60 | 136.50 | 175.70 | 276.90
38 | 94.60 | 98.00 | 124.90 | 159.90 | 254.15 | 139.10 | 179.20 | 281.45
39 | 97.06 | 100.30 | 126.85 | 163.15 | 258.70 | 141.70 | 182.70 | 286.00
40 | 98.52 | 101.60 | 128.80 | 166.40 | 262.60 | 144.30 | 186.20 | 291.20
41 | 100.98 | 103.90 | 132.40 | 169.65 | 267.15 | 146.90 | 189.70 | 295.75
42 | 103.90 | 105.20 | 134.35 | 172.90 | 271.70 | 149.50 | 193.20 | 300.95
43 | 105.36 | 106.50 | 136.95 | 176.15 | 276.25 | 152.10 | 196.70 | 305.50
44 | 106.82 | 107.15 | 139.90 | 179.40 | 280.80 | 154.70 | 200.20 | 310.70
45 | 110.01 | 109.45 | 143.50 | 182.00 | 285.35 | 157.30 | 203.70 | 315.25
46 | 111.47 | 110.75 | 146.45 | 185.25 | 289.90 | 159.90 | 207.20 | 319.80
47 | 112.93 | 111.40 | 149.40 | 188.50 | 293.80 | 162.50 | 210.70 | 325.00
48 | 115.39 | 113.70 | 153.00 | 191.75 | 298.35 | 165.10 | 214.20 | 329.55
49 | 117.58 | 115.00 | 154.95 | 195.00 | 302.90 | 167.70 | 217.70 | 334.75
50 | 120.04 | 117.95 | 158.85 | 200.20 | 310.70 | 171.60 | 221.20 | 343.20
51 | 122.96 | 119.25 | 160.80 | 203.45 | 315.25 | 171.60 | 224.70 | 352.95
52 | 124.42 | 121.55 | 163.40 | 206.70 | 319.80 | 176.80 | 228.20 | 352.95
53 | 125.88 | 123.85 | 165.35 | 209.95 | 324.35 | 179.40 | 231.70 | 363.35
54 | 128.07 | 125.50 | 167.95 | 213.20 | 328.90 | 182.00 | 235.20 | 363.35
55 | 129.80 | 127.80 | 169.90 | 216.45 | 333.45 | 183.95 | 238.70 | 371.80
56 | 131.26 | 129.45 | 172.50 | 219.70 | 338.00 | 187.20 | 242.20 | 371.80
57 | 133.99 | 131.75 | 175.45 | 222.95 | 342.55 | 189.15 | 245.70 | 379.60
58 | 135.72 | 133.40 | 178.40 | 226.20 | 346.45 | 192.40 | 249.20 | 379.60
59 | 138.18 | 135.70 | 181.00 | 229.45 | 351.00 | 194.35 | 252.70 | 388.05
60 | 139.91 | 138.00 | 183.95 | 232.70 | 355.55 | 197.60 | 256.20 | 388.05
61 | 142.37 | 139.65 | 186.55 | 235.95 | 360.10 | 199.55 | 259.70 | 397.80
62 | 144.10 | 141.30 | 188.50 | 238.55 | 364.00 | 203.45 | 263.20 | 397.80
63 | 145.83 | 143.60 | 191.10 | 241.80 | 369.20 | 204.75 | 266.70 | 407.55
64 | 147.56 | 145.25 | 195.05 | 245.05 | 371.15 | 208.65 | 270.20 | 407.55
65 | 149.29 | 147.55 | 197.65 | 248.30 | 378.30 | 209.95 | 273.70 | 417.30
66 | 151.02 | 149.20 | 199.60 | 251.55 | 378.30 | 213.85 | 277.20 | 417.30
67 | 152.75 | 151.50 | 203.55 | 254.80 | 385.45 | 215.15 | 280.70 | 427.05
68 | 154.48 | 153.80 | 206.15 | 258.05 | 386.75 | 219.05 | 284.20 | 427.05
69 | 157.21 | 155.45 | 208.10 | 261.30 | 392.60 | 220.35 | 287.70 | 436.80
70 | 158.94 | 157.10 | 210.70 | 264.55 | 392.60 | 224.25 | 291.20 | 436.80

216.368 Non-Document Rates With 20-Piece Discount

Weight not over (lbs.) | Rate group 1 | Rate group 2 | Rate group 3 | Rate group 4 | Rate group 5 | Rate group 6 | Rate group 7 | Rate group 8
0.5 |  |  |  |  |  |  |  |
1 | 26.28 | 26.70 | 32.28 | 33.76 | 41.58 | 36.24 | 43.75 | 53.30
2 | 29.93 | 29.25 | 34.62 | 34.10 | 44.64 | 38.20 | 45.70 | 62.40
3 | 32.12 | 33.15 | 37.96 | 39.68 | 53.32 | 41.54 | 48.95 | 70.85
4 | 34.31 | 35.75 | 40.30 | 44.02 | 62.00 | 45.26 | 52.50 | 78.00
5 | 36.50 | 39.00 | 44.64 | 48.36 | 70.06 | 49.60 | 55.05 | 87.10
6 | 37.96 | 40.95 | 47.74 | 52.70 | 78.12 | 52.70 | 59.60 | 94.90
7 | 40.15 | 42.90 | 50.22 | 56.42 | 85.56 | 56.42 | 62.15 | 102.70
8 | 41.61 | 46.15 | 53.32 | 60.76 | 93.00 | 59.52 | 65.70 | 110.50
9 | 43.07 | 48.10 | 56.42 | 65.10 | 101.06 | 62.62 | 68.25 | 118.30
10 | 45.26 | 50.05 | 58.90 | 68.82 | 109.74 | 66.34 | 72.80 | 123.50
11 | 46.72 | 52.00 | 62.00 | 71.92 | 115.94 | 69.44 | 76.70 | 133.90
12 | 48.18 | 53.95 | 64.48 | 75.64 | 122.14 | 71.92 | 79.95 | 141.70
13 | 50.37 | 55.90 | 66.34 | 78.74 | 128.34 | 74.40 | 83.85 | 149.50
14 | 51.83 | 57.20 | 68.82 | 81.84 | 134.54 | 76.88 | 87.10 | 156.65
15 | 53.29 | 59.15 | 70.68 | 84.94 | 141.98 | 81.22 | 90.35 | 164.45
16 | 55.48 | 61.10 | 72.54 | 88.66 | 147.56 | 83.70 | 93.60 | 171.60
17 | 56.94 | 63.05 | 75.02 | 91.76 | 152.52 | 86.18 | 96.85 | 178.75
18 | 58.40 | 65.00 | 76.88 | 94.86 | 156.86 | 88.66 | 100.75 | 185.90
19 | 62.59 | 68.95 | 79.36 | 97.96 | 161.82 | 91.14 | 104.65 | 193.05
20 | 65.51 | 71.55 | 83.22 | 102.30 | 166.16 | 93.62 | 108.55 | 200.20
21 | 66.97 | 73.50 | 85.08 | 105.40 | 170.50 | 95.48 | 112.45 | 206.05
22 | 70.43 | 76.80 | 89.56 | 108.50 | 175.46 | 97.96 | 115.70 | 211.90
23 | 71.89 | 78.75 | 91.42 | 111.60 | 179.80 | 100.44 | 118.95 | 216.45
24 | 75.08 | 81.70 | 94.90 | 114.70 | 184.76 | 102.92 | 122.20 | 221.00
25 | 76.54 | 83.00 | 96.76 | 117.80 | 189.10 | 105.40 | 125.45 | 226.20
26 | 79.00 | 85.30 | 100.86 | 120.90 | 194.06 | 107.88 | 128.70 | 230.75
27 | 80.46 | 85.95 | 103.34 | 123.38 | 198.40 | 110.36 | 131.95 | 235.30
28 | 82.92 | 88.90 | 106.20 | 126.48 | 203.36 | 112.84 | 135.20 | 240.50
29 | 84.38 | 90.20 | 108.06 | 129.58 | 207.70 | 115.32 | 138.45 | 245.05
30 | 86.57 | 92.80 | 111.16 | 133.92 | 214.52 | 119.04 | 141.70 | 252.20
31 | 88.03 | 94.75 | 113.64 | 137.02 | 218.86 | 121.52 | 144.95 | 257.40
32 | 89.49 | 96.05 | 115.50 | 140.12 | 223.82 | 124.00 | 148.20 | 261.95
33 | 92.95 | 99.35 | 119.98 | 143.22 | 228.16 | 126.48 | 151.45 | 267.15
34 | 95.14 | 100.65 | 121.84 | 146.32 | 233.12 | 128.96 | 154.70 | 271.70
35 | 96.60 | 101.95 | 123.70 | 149.42 | 238.08 | 131.44 | 157.95 | 280.15
36 | 98.06 | 103.25 | 126.18 | 151.90 | 242.42 | 133.92 | 161.20 | 284.70
37 | 99.52 | 104.55 | 128.04 | 155.00 | 247.38 | 136.40 | 164.45 | 289.90
38 | 100.98 | 105.85 | 130.52 | 158.10 | 251.72 | 138.88 | 167.70 | 294.45
39 | 102.44 | 107.15 | 132.38 | 161.20 | 256.06 | 141.36 | 170.95 | 299.00
40 | 106.90 | 111.45 | 137.24 | 166.16 | 259.78 | 143.84 | 174.20 | 304.20
41 | 108.36 | 112.75 | 139.72 | 169.26 | 264.12 | 146.32 | 177.45 | 308.75
42 | 113.28 | 116.05 | 143.58 | 172.36 | 268.46 | 148.80 | 180.70 | 313.95
43 | 114.74 | 117.35 | 146.06 | 175.46 | 272.80 | 151.28 | 183.95 | 318.50
44 | 116.20 | 118.00 | 147.92 | 178.56 | 277.14 | 153.76 | 187.20 | 323.70
45 | 118.39 | 119.30 | 150.40 | 182.90 | 281.48 | 156.24 | 190.45 | 328.25
46 | 120.85 | 121.60 | 153.26 | 186.00 | 285.82 | 158.72 | 193.70 | 329.55
47 | 122.31 | 122.25 | 155.12 | 189.10 | 289.54 | 161.20 | 196.95 | 334.75
48 | 125.77 | 125.55 | 159.60 | 192.20 | 293.88 | 163.68 | 200.20 | 339.30
49 | 127.23 | 126.85 | 161.46 | 195.30 | 298.22 | 166.16 | 203.45 | 344.50
50 | 127.96 | 128.80 | 165.18 | 198.40 | 305.66 | 169.88 | 206.70 | 352.95
51 | 130.88 | 130.10 | 167.04 | 201.50 | 308.76 | 171.12 | 209.95 | 362.70
52 | 132.34 | 131.40 | 169.52 | 204.60 | 313.10 | 174.84 | 213.20 | 362.70
53 | 135.80 | 134.70 | 173.38 | 207.70 | 317.44 | 177.32 | 216.45 | 373.10
54 | 137.99 | 135.35 | 175.86 | 210.80 | 321.78 | 179.80 | 219.70 | 373.10
55 | 138.72 | 136.65 | 177.72 | 213.90 | 326.12 | 181.66 | 222.95 | 381.55
56 | 140.18 | 137.30 | 180.20 | 217.00 | 330.46 | 184.76 | 226.20 | 381.55
57 | 141.91 | 139.60 | 183.06 | 220.10 | 334.80 | 186.62 | 229.45 | 389.35
58 | 142.64 | 140.25 | 184.92 | 223.20 | 338.52 | 189.72 | 232.70 | 389.35
59 | 144.10 | 141.55 | 187.40 | 226.30 | 342.86 | 191.58 | 235.95 | 397.80
60 | 144.10 | 142.85 | 189.26 | 229.40 | 347.20 | 194.68 | 239.20 | 397.80
61 | 147.56 | 147.45 | 193.74 | 232.50 | 351.54 | 196.54 | 242.45 | 407.55
62 | 148.29 | 148.10 | 195.60 | 234.98 | 355.26 | 200.26 | 245.70 | 407.55
63 | 149.02 | 149.40 | 198.08 | 238.08 | 360.22 | 201.50 | 248.95 | 417.30
64 | 151.75 | 152.05 | 201.94 | 241.18 | 362.08 | 205.22 | 252.20 | 417.30
65 | 152.48 | 153.35 | 204.42 | 244.28 | 368.90 | 206.46 | 255.45 | 427.05
66 | 153.21 | 154.00 | 206.28 | 247.38 | 368.90 | 210.18 | 258.70 | 427.05
67 | 153.94 | 155.30 | 208.14 | 250.48 | 375.72 | 211.42 | 261.95 | 436.80
68 | 155.67 | 157.60 | 211.62 | 253.58 | 376.96 | 215.14 | 265.20 | 436.80
69 | 156.40 | 158.25 | 213.48 | 256.68 | 382.54 | 216.38 | 268.45 | 446.55
70 | 157.13 | 158.90 | 215.96 | 259.78 | 382.54 | 220.10 | 271.70 | 446.55

* * * * *

Stanley F. Mires,
Chief Counsel, Legislative.

[FR Doc. 01-19993 Filed 8-9-01; 8:45 am]

BILLING CODE 7710-12-P